ENVIRONMENTAL PROTECTION AGENCY

40 CFR Part 52

[Docket No. EPA-R02-OAR-2014-0182; FRL-9911-56-Region 2]

Approval and Promulgation of Implementation Plans; Carbon Monoxide Maintenance Plan, Conformity Budgets, Emissions Inventories; State of New York

AGENCY: Environmental Protection Agency (EPA).

ACTION: Final rule.

SUMMARY: The Environmental Protection Agency (EPA) is approving a State Implementation Plan (SIP) revision submitted by the New York State Department of Environmental Conservation. This revision establishes an updated ten-year carbon monoxide (CO) maintenance plan for the New York portion of the New York-Northern New Jersey-Long Island (NYCMA) CO area which includes the following seven counties: Bronx, Kings, Nassau, New York, Queens, Richmond and Westchester. In addition, EPA is approving a revision to the CO motor vehicle emissions budgets for New York and revisions to the 2007 Attainment/Base Year emissions inventory.

The New York portion of the NYCMA CO area was redesignated to attainment of the CO National Ambient Air Quality Standard (NAAQS) on April 19, 2002 and maintenance plans were also approved at that time. By this action, EPA is approving the second maintenance plan for this area because it provides for continued attainment for an additional ten years of the CO NAAQS. The intended effect of this rulemaking is to approve a SIP revision that will insure continued maintenance of the CO NAAQS.

DATES: Effective Date: This rule is effective on June 30, 2014.

ADDRESSES: EPA has established a docket for this action under Docket ID Number EPA-R02-OAR-2014-0182. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Programs Branch, Environmental Protection Agency, Region II, 290 Broadway, New York, New York 10007-1866. This Docket Facility is open from 8:30 a.m. to 4:30 p.m., Monday through Friday, excluding legal holidays. The Docket telephone number is 212-637-4249.

FOR FURTHER INFORMATION CONTACT: If you have questions concerning today's final action, please contact Henry Feingersh, Air Programs Branch, Environmental Protection Agency, 290 Broadway, 25th Floor, New York, New York 10007-1866, telephone number (212) 637-3382, fax number (212) 637-3901, email feingersh.henry@epa.gov.

SUPPLEMENTARY INFORMATION:

I. What action is EPA taking?

EPA is approving New York's SIP revision updating their existing ten-year carbon monoxide (CO) maintenance plan with another ten-year plan for the New York portion of the New York-Northern New Jersey-Long Island (NYCMA) CO area which includes the following seven counties: Bronx, Kings, Nassau, New York, Queens, Richmond and Westchester. The reader is referred to the March 25, 2014 (79 FR 16265) proposal for details on this rulemaking.

II. What comments did EPA receive on its proposal and what are EPA's responses?

EPA received one comment that supports our proposed approval of the updated CO maintenance plan. EPA is approving the New York SIP revision request.

III. What is EPA's final action?

EPA is approving New York's SIP revision updating their existing ten-year CO maintenance plan for the New York portion of the New York-Northern New Jersey-Long Island (NYCMA) CO area. EPA is also approving the 2007 CO base year emissions inventory and the CO motor vehicle emissions budgets all dated May 9, 2013.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 29, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Reporting and recordkeeping requirements.

Dated: May 16, 2014.
Judith A. Enck,
Regional Administrator, Region 2.

Therefore, 40 CFR part 52 is amended as follows:

PART 52—[AMENDED]

1. The authority citation for part 52 continues to read as follows:

Authority: 42 U.S.C. 7401 et seq.

2. In § 52.1670, add a new entry at the end of the table in paragraph (e) to read as follows:

§ 52.1670 Identification of plan.

* * * * *

(e) * * *

EPA-Approved New York Nonregulatory and Quasi-Regulatory Provisions
Action/SIP element | Applicable geographic or nonattainment area | New York submittal date | EPA approval date | Explanation
* * * * * * *
Approval of CO maintenance plan, CO motor vehicle budgets, and 2007 CO base year emissions inventory | New York portion of the New York-Northern New Jersey-Long Island (NYCMA) CO area | 05/09/13 | 5/30/14 [insert page number where the document begins] | This is the 2nd 10-year CO maintenance plan for the New York portion of the NYCMA.

3. In § 52.1682, add paragraph (d) to read as follows:

§ 52.1682 Control strategy: Carbon monoxide.

* * * * *

(d) Approval—The May 9, 2013 revision to the carbon monoxide (CO) maintenance plan for the New York portion of the New York-Northern New Jersey-Long Island, NYCMA, CO area. This revision contains a second ten-year maintenance plan that demonstrates continued attainment of the National Ambient Air Quality Standard for CO through the year 2022, 2007 CO base year emissions inventory and CO motor vehicle emissions budgets through the maintenance period.

[FR Doc. 2014-12465 Filed 5-29-14; 8:45 am]

BILLING CODE 6560-50-P